NATIONAL AERONAUTICS AND SPACE ADMINISTRATION

[Notice 02-006]

Notice of Prospective Patent License

AGENCY: National Aeronautics and Space Administration.

ACTION: Notice of Prospective Patent License.

SUMMARY: NASA hereby gives notice that Phoenix Systems International, Inc., of Pinebrook, New Jersey, has applied for an exclusive patent license to practice the inventions described and claimed in the following: U.S. Patent No. 6,039,783, “Process and Equipment for Nitrogen Oxide Waste Conversion to Fertilizer,” KSC-11884-2, “Process and Equipment for Nitrogen Oxide Waste Conversion to Fertilizer,” and KSC-12235-1, “High Temperature Decomposition of Hydrogen Peroxide,” which are assigned to the United States of America as represented by the Administrator of the National Aeronautics and Space Administration. Written objections to the prospective grant of a license should be sent to Randy Heald, Patent Counsel, John F. Kennedy Space Center, Kennedy Space Center, FL 32899.

DATES: Responses to this Notice must be received by January 31, 2002.

FOR FURTHER INFORMATION CONTACT: Randall M. Heald, Assistant Chief Counsel/Patent Counsel, John F. Kennedy Space Center, Mail Code: CC-A, Kennedy Space Center, FL 32899, telephone (321) 867-7214.

Dated: January 8, 2002.
Robert M. Stephens,
Deputy General Counsel.

[FR Doc. 02-1023 Filed 1-15-02; 8:45 am]

BILLING CODE 7510-01-P